DEPARTMENT OF TRANSPORTATION

Pipeline and Hazardous Materials Safety Administration

Notice of Actions on Special Permit Applications

AGENCY: Pipeline And Hazardous Materials Safety Administration (PHMSA), DOT.

ACTION: Notice of actions on Special Permit Applications.

In accordance with the procedures governing the application for, and the processing of, special permits from the Department of Transportation's Hazardous Material Regulations (49 CFR part 107, Subpart B), notice is hereby given of the actions on special permits applications in (July to July 2013). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on August 8, 2013.
Don Burger,
Chief, General Approvals and Permits.

S.P No. | Applicant | Regulation(s) | Nature of special permit thereof
Modification Special Permit Granted
15136-M | Luxfer Gas Cylinders, Riverside, CA | 49 CFR 173.302a, 173.304a, and 180.205 | To modify the special permit to authorize a new maximum allowable volume and allowable contents.
14149-M | Digital Wave Corporation, Centennial, CO | 49 CFR 172.203(a), 172.301(c), and 180.205 | To modify the special permit to authorize ultrasonic equipment with a five sensor head with sensors positioned to perform all required straight and angle beam examinations in a single pass.
14206-M | Digital Wave Corporation, Centennial, CO | 49 CFR 172.203(a), 172.301(c), and 180.205 | To modify the special permit to authorize ultrasonic equipment with a five sensor head with sensors positioned to perform all required straight and angle beam examinations in a single pass.
11952-M | U.S. Department of Defense, Scott AFB, IL | 49 CFR 173.306(a) | To modify the special permit to authorize a greater maximum weight limit when up to eight metal containers are transported.
11667-M | Weldship Corporation, Bethlehem, PA | 49 CFR 173.34(e), and 173.302(c)(2),(3), and (4) | To modify the special permit to authorize neck thread requirements that are consistent with CGA Pamphlet C-23.
12184-M | Weldship Corporation, Bethlehem, PA | 49 CFR 173.34(e)(1), 173.302(c)(2)(3)(4), 173.34(e)(3), 173.34(e)(4), and 173.34(e)(6) | To modify the special permit to authorize neck thread requirements that are consistent with CGA Pamphlet C-23.
10704-M | Air Liquide America Specialty Gases LLC, Plumsteadville, PA | 49 CFR 173.302(a)(1), Part 172 Subpart C, E and F, Part 174, and Part 177 | To modify the special permit to authorize a lower minimum burst pressure and pressure rating.
9847-M | FIBA Technologies, Inc., Millbury, MA | 49 CFR 180.209(a), 180.205(c), (f), (g), and (i); 173.302a (b)(2), (3), (4), and (5); and 180.213 | To modify the special permit so that the neck thread requirements in paragraph 7.b.(2) are consistent with CGA Pamphlet C-23.
10922-M | FIBA Technologies, Inc., Millbury, MA | 49 CFR 172.301a and 180.205 | To modify the special permit so that the neck thread requirements in paragraph 7.k. are consistent with CGA Pamphlet C-23.
14453-M | FIBA Technologies, Inc., Millbury, MA | 49 CFR 180.209 | To modify the special permit so that the neck thread requirements in paragraph 7.b.(1) are consistent with CGA Pamphlet C-23.
14661-M | FIBA Technologies, Inc., Millbury, MA | 49 CFR 180.209(a) and 180.209(b) | To modify the special permit to authorize new corrosion requirements to be consistent with CGA Pamphlet C-23 and require neck thread requirements to be consistent with CGA Paphlet C-23.
15793-M | Northern Air Cargo, Anchorage, AK | 49 CFR 172.101 Column (9B) | To reissue the special permit originally issued on an emergency basis.
15817-M | C L Smith Company, Saint Louis, MO | 49 CFR 173.13(a), 173.13(b), 173.13(c)(1)(ii), 173.13(c)(l)(iv), and 173.13(d) | To reissue the special permit originally issued on an emergency basis.
15871-M, | Shell Chemical LP, Deer Park, TX | 49 CFR 171.2(g) | To modify the special permit to authorize a 16 week extension to the expiration date.
New Special Permit Granted
15755-N | Micronesian Aviation Corporation dba Americopters, Saipan, MP | 49 CFR § 172.101 Column (9B), § 172.204(c)(3), § 173.27(b)(2), § 175.30(a)(1), §§ 172.200, 172.300, 172.400, 173.302(f)(3) and § 175.75 | To authorize the transportation in commerce of certain hazardous materials by Part 133 Rotorcraft External Load Operations, attached to or suspended from an aircraft, in remote areas of the U.S. without meeting certain hazard communication and stowage requirements. (mode 4)
15727-N | Blackhawk Helicopters, El Cajon, CA | 49 CFR § 172.101 Column (9B), § 172.204(c)(3), § 173.27(b)(2), § 175.30(a)(1), §§ 172.200, 172.300, 172.400, 173.302(f)(3) and § 175.75 | To authorize the transportation in commerce of certain hazardous materials by Part 133 Rotorcraft External Load Operations, attached to or suspended from an aircraft, in remote areas of the US without meeting certain hazard communication and stowage requirements. (mode 4)
15809-N | Olin Corporation, Oxford, MS | 49 CFR 173.63(b)(2)(v) | To authorize the transportation in commerce of .17 caliber rim-fire cartridges loosely packed in strong outside packagings. (modes 1, 2, 3, 4, 5)
15811-N | Bluesky Helicopters, Inc., Redlands, CA | 49 CFR 49 CFR Table § 172.101, Column(9B), § 172.204(c)(3), § 173.27(b)(2), § 175.30(a)(1), §§ 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
15788-N | Amtrol-Alfa, Metalomecanica SA, Portugal | 49 CFR 173.302a(a)(1), 180.205 | To authorize the manufacture, marking, sale, and use of non-DOT specification fully-wrapped carbon fiber reinforced welded steel lined cylinders that meets all requirements of ISO 11119-2. (modes 1, 2, 3, 4, 5)
15837-N | Department of Defense, Scotts AFB, IL | 49 CFR 173.304a | To authorize the transportation in commerce of a Submarine High Data Rate (HDR)/Advanced Communications Mast (ACM) configured with a non-DOT specification pressure vessel containing anhydrous ammonia. (modes 1, 2, 3, 4)
15859-N | Heli-Jet Corporation, Nampa, ID | 49 CFR 49 CFR Table § 172.101, Column(9B), § 172.204(c)(3), § 173.27(b)(2), § 175.30(a)(1), §§ 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
15866-N | General Motors LLC, Warren, MI | 49 CFR 173.185 | To authorize the transportation in commerce of certain damaged or defective lithium batteries. (modes 1, 2, 3)
Emergency Special Permit Granted
15789-N | Sartomer USA LLC, King of Prussia, PA | 49 CFR 173.24(c) | To authorize the transportation in commerce of a 485 gallon reactor containing approximately 300 gallons of predominately solid polymer that may contain pockets of liquid containing Toluene Diisocyanate. (mode 1)
15884-N, | Suttles Truck Leasing LLC, Avenel, NJ | 49 CFR 173.244 | To authorize the one time one way transportation of a DOT 407 cargo tank containing residual amounts of Waste Trichlorosilane for cleaning and purging. (mode 1)
New Special Permit Withdrawn
15857-N | Otter Products, LLC, d/b/a OtterBox, Fort Collins, CO | 49 CFR 172.101(c) | To authorize the transportation in commerce of a lithium ion battery which is permanently installed in a cell phone case as “Lithium batteries contained in equipment.” (modes 1, 4, 5)
Denied
11296-M | Request by Clean Earth of North Jersey, Inc. South Kearny, NJ July 31, 2013. To modify the special permit to authorize an additional packaging (cubic yard box).
15800-N | Request by EQ Industrial Services, Inc. Ypsilanti, MI July 11, 2013. To authorize the transportation of damaged small arms cartridges, flares, and other similar explosives that have been desensitized to remove their explosive characteristics, as Division 4.1 flammable solids.

[FR Doc. 2013-20266 Filed 8-20-13; 8:45 am]

BILLING CODE 4909-60-P